DEPARTMENT OF TRANSPORTATION

Federal Aviation Administration

14 CFR Part 25

[Docket No. FAA-2017-0190; Special Conditions No. 25-654-SC]

Special Conditions: VT DRB Aviation Consultants, Boeing Model 777-200 Airplanes; Installation of an Airbag System in Shoulder Belts

AGENCY: Federal Aviation Administration (FAA), DOT.

ACTION: Final special conditions; correction.

SUMMARY: This document corrects an error that appeared in docket no. FAA-2017-0126, Special Conditions No. 25-654-SC, which was published in the Federal Register on April 7, 2017. The error occurs in the docket number of the final special conditions document.

DATES: Effective Date: The effective date of this correction is May 2, 2018.

FOR FURTHER INFORMATION CONTACT: John Shelden, FAA, Airframe and Cabin Safety Section, AIR-675, Transport Standards Branch, Policy and Innovation Division, Aircraft Certification Service, 2200 South 216th St., Des Moines, Washington 98198; telephone 206-231-3214; facsimile 206-231-3398.

SUPPLEMENTARY INFORMATION:

Background

On April 7, 2017, the Federal Register published a document designated as docket no. FAA-2017-0126, Final Special Conditions No. 25-654-SC (82 FR 16893). The document, issued special conditions pertaining to the installation of an airbag system in shoulder belts. As published, the document contained an error, located in two places, in the Federal Docket assigned docket number.

Correction

In the final special conditions document FR Doc. 2017-06930, published on April 7, 2017 (82 FR 16893), make the following correction:

On Federal Register page no. 16893, second column, in two locations where it appears, change the document's docket no. from FAA-2017-0126 to FAA-2017-0190.

Issued in Renton, Washington, on April 24, 2018.
Victor Wicklund,
Manager, Transport Standards Branch, Policy and Innovation Division, Aircraft Certification Service.

[FR Doc. 2018-09269 Filed 5-1-18; 8:45 am]

BILLING CODE 4910-13-P